DEPARTMENT OF HEALTH AND HUMAN SERVICES

Announcement of the President's Advisory Commission on Asian Americans, Native Hawaiians, and Pacific Islanders Meeting and Solicitation for Written Comment

AGENCY: Department of Health and Human Services, Office of the Secretary, Office for Civil Rights, White House Initiative on Asian Americans, Native Hawaiians, and Pacific Islanders.

ACTION: Notice of meeting and solicitation for written comment.

SUMMARY: As required by the Federal Advisory Committee Act, the U.S. Department of Health and Human Services (HHS) is hereby giving notice that the President's Advisory Commission on Asian Americans, Native Hawaiians, and Pacific Islanders will hold a virtual, two-day meeting on December 5 and December 6, 2022.

DATES: The Commission will meet on December 5, 2022, and December 6, 2022, from 4:00 p.m. Eastern Time (ET) to approximately 7:00 p.m. ET on both days. The confirmed time and agenda will be posted on the website for the President's Advisory Commission on Asian Americans, Native Hawaiians, and Pacific Islanders: https://www.hhs.gov/about/whiaanhpi/commission/index.html when this information becomes available.

Written comments, in response to the questions listed below, will be accepted via email at AANHPICommission@hhs.gov with the subject line “PACAANHPI: Response to <insert the issue and question>.” To be assured consideration in the development of future recommendations, written comments must be submitted and received at the email address provided above, no later than 11:59 p.m. ET on Thursday, December 1, 2022. Submissions received after the deadline will not be reviewed.

ADDRESSES: The meeting will be live streamed. Registration is required through the following link: https://www.eventbrite.com/e/meeting-of-the-presidents-advisory-commission-on-aa-and-nhpis-registration-449829250397.

FOR FURTHER INFORMATION CONTACT: Caroline Goon, Designated Federal Officer, President's Advisory Commission on Asian Americans, Native Hawaiians, and Pacific Islanders, U.S. Department of Health and Human Services, Office of the Secretary, Office for Civil Rights, Hubert H. Humphrey Building, Room 515F, 200 Independence Ave. SW, Washington, DC 20201; email: AANHPICommission@hhs.gov; telephone: (202) 619-0403, fax: (202) 619-3818.

SUPPLEMENTARY INFORMATION: The meeting is the fourth in a series of Federal advisory committee meetings regarding the development of recommendations to promote equity, justice, and opportunity for Asian American, Native Hawaiian, and Pacific Islander (AA and NHPI) communities. The meeting is open to the public and will be live streamed. The Commission, co-chaired by HHS Secretary Xavier Becerra and the U.S. Trade Representative Ambassador Katherine Tai, will advise the President on: the development, monitoring, and coordination of executive branch efforts to advance equity, justice, and opportunity for AA and NHPI communities in the United States, including efforts to close gaps in health, socioeconomic, employment, and educational outcomes; policies to address and end anti-Asian bias, xenophobia, racism, and nativism, and opportunities for the executive branch to advance inclusion, belonging, and public awareness of the diversity and accomplishments of AA and NHPI people, cultures, and histories; policies, programs, and initiatives to prevent, report, respond to, and track anti-Asian hate crimes and hate incidents; ways in which the Federal Government can build on the capacity and contributions of AA and NHPI communities through equitable Federal funding, grantmaking, and employment opportunities; policies and practices to improve research and equitable data disaggregation regarding AA and NHPI communities; policies and practices to improve language access services to ensure AA and NHPI communities can access Federal programs and services; and strategies to increase public-and private-sector collaboration, and community involvement in improving the safety and socioeconomic, health, educational, occupational, and environmental well-being of AA and NHPI communities.

Information is available on the President's Advisory Commission on Asian Americans, Native Hawaiians, and Pacific Islanders website at https://www.hhs.gov/about/whiaanhpi/commission/index.html. The names of the 25 members of the President's Advisory Commission on Asian Americans, Native Hawaiians, and Pacific Islanders are available at https://www.hhs.gov/about/whiaanhpi/commission/commissioners/index.html.

Purpose of Meeting: The President's Advisory Commission on Asian Americans, Native Hawaiians, and Pacific Islanders, authorized by Executive Order 14031, will meet to discuss full and draft recommendations by the Commission's six Subcommittees on ways to advance equity, justice, and opportunity for Asian American, Native Hawaiian, and Pacific Islander communities. The Subcommittees are: Belonging, Inclusion, Anti-Asian Hate, Anti-Discrimination; Data Disaggregation; Language Access; Economic Equity; Health Equity; and Immigration and Citizenship Status.

Background: Asian American, Native Hawaiian, and Pacific Islander communities are among the fastest growing racial and ethnic populations in the United States according to the U.S. Census Bureau. However, in recent years, AA and NHPI individuals have faced increasing hate crimes and incidents that threaten their safety, as well as harmful stereotypes that often ignore socioeconomic, health, and educational disparities impacting these diverse communities.

Tragic acts of anti-Asian violence increased during the COVID-19 pandemic, casting a shadow of fear and grief over many AA and NHPI communities, in particular East Asian communities. Long before this pandemic, AA and NHPI communities in the United States, including South Asian and Southeast Asian communities, have faced persistent xenophobia, religious discrimination, racism, and violence. At the same time, AA and NHPI communities are overrepresented in the pandemic's essential workforce in healthcare, food supply, education, and childcare, with more than four million AA and NHPIs manning the frontlines throughout the pandemic.

Many AA and NHPI communities, and in particular Native Hawaiian and Pacific Islander communities, have also been disproportionately burdened by the COVID-19 public health crisis. Evidence suggests that Native Hawaiians and Pacific Islanders are three times more likely to contract COVID-19 compared to white people and nearly twice as likely to die from the disease. On top of these health inequities, many AA and NHPI workers, families, and small businesses have faced devastating economic losses during this crisis, which must be addressed.

The challenges AA and NHPI communities face are often exacerbated by a lack of adequate data disaggregation and language access. The President's Advisory Commission on Asian Americans, Native Hawaiians, and Pacific Islanders works to advise the President on executive branch efforts to address these challenges and advance equity, justice, and opportunity for AA and NHPI communities.

Public Participation at Meeting: Members of the public are invited to view the Commission meeting. Registration is required through the following link: https://www.eventbrite.com/e/meeting-of-the-presidents-advisory-commission-on-aa-and-nhpis-registration-449829250397. Please note that there will be no opportunity for oral public comments during the meeting of the Commission. However, written comments are welcomed throughout the development of the Commission's recommendations to promote equity, justice, and opportunity for Asian Americans, Native Hawaiians, and Pacific Islanders and may be emailed to AANHPICommission@hhs.gov at any time. Respond concisely and in plain language. You may use any structure or layout that presents your information well. You may respond to some or all of our questions, and you can suggest other factors or relevant questions. You may also include links to online material or interactive presentations. Clearly mark any proprietary information and place it in its own section or file. Your response will become Government property, and we may publish some of its non-proprietary content.

The Commission is particularly interested in soliciting written comments on the following questions:

1. Belonging, Inclusion, Anti-Asian Hate, Anti-Discrimination Subcommittee Questions:

a. Please describe policies, programs, models, or best practices that have been effective in reducing race-based violence or bias targeting AA and NHPI communities, including any programs geared toward children or youth.

b. What policies, programs, models, or best practices, if any, have reduced incidents of gun violence in AA and NHPI communities?

c. What barriers have AA and NHPI military servicemembers faced in seeking religious accommodations from their respective branch of the U.S. military?

2. Data Disaggregation Subcommittee Questions:

a. What datasets do AA and NHPI communities identify as being particularly important for the Federal Government to prioritize for disaggregated data collection, analysis, and reporting?

b. How can existing Federal Government datasets be improved in terms of questions, survey structures, categories, collection methodology, data accessibility, and more in order to better serve community-based organizations and ensure that AA and NHPI population data is useful for further analysis?

c. What are some ideas on how the Federal Government can better partner with community-based organizations, think tanks, and academic institutions for secondary data analysis?

3. Language Access Subcommittee Questions:

a. Title VI of the Civil Rights Act of 1964 requires recipients of Federal financial assistance to provide meaningful access to their programs to people who are limited English proficient (LEP). How can the Federal Government ensure that recipients of Federal financial assistance conduct effective outreach to LEP communities, provide language access and support AAPI LEP communities, including those that speak languages of lesser diffusion? Examples, models, or promising practices are welcomed.

b. Executive Order 13166, Improving Access to Services for Persons with Limited English Proficiency, requires the Federal Government to provide LEP individuals with meaningful access to federally-conducted programs and activities. Each Federal agency was also asked under Executive Order 13985, Advancing Racial Equity and Support for Underserved Communities Through the Federal Government, to identify potential barriers that underserved communities and individuals may face to enrollment in and access to benefits and services in Federal programs. Given the Federal Government's commitment to language access and racial equity, how can the Federal Government better conduct outreach to and address the needs of AA and NHPI LEP communities, including those that speak languages of lesser diffusion? Examples, models, or promising practices are welcomed.

c. How can the Federal Government promote the preservation, teaching, learning of, maintenance and utilization of AA and NHPI languages?

4. Immigration and Citizenship Status Subcommittee Questions:

a. What information should the U.S. Department of Homeland Security's U.S. Citizenship and Immigration Services (USCIS) prioritize for translation, and what Asian and Pacific Islander languages should be prioritized?

b. What are some ways for the U.S. Department of Homeland Security's U.S. Immigration and Customs Enforcement (ICE) to improve cultural sensitivity, equity, and language access in their interactions with the AAPI community?

c. How should the Federal Government improve access to humanitarian protections, such as asylum and victim protections for AAPI community members?

d. The citizens of the Freely Associated States of Palau, the Marshall Islands and the Federated States of Micronesia may live, study, and work in the United States and its territories without a visa. This arrangement is pursuant to compact treaties signed with these countries and in recognition of the special relationship they have with the United States. They are lawful residents and do not have immigrant status nor are they eligible to apply for permanent resident status. They are currently eligible for some Federal programs but not others. For example, they are eligible for the Women Infant and Children's Program (WIC), but not SNAP (Food Stamps). Please provide examples of the ways in which this lack of access to Federal benefits and programs has impacted citizens from the Freely Associated States?

e. Please provide input and recommendations on ways to reduce the burden on individuals and families subject to long-term orders of supervision following final orders of removal. Many Asian Americans and Pacific Islanders have final orders of removal and continue to live in the United States on orders of supervision. For example, some individuals have been required to check-in with U.S. Immigration and Customs Enforcement (ICE), sometimes yearly or more frequently, for over 20 years. Each ICE field office has the authority to decide the frequency of check-ins for an individual on an order of supervision, resulting in often burdensome and traumatic, non-uniform check-in schedules.

i. How do the current validity periods for Employment Authorization Documents (EAD) affect individuals with a long-term order of supervision? How would extending the validity period for EADs issued to this population impact their livelihood?

ii. What positive equities should ICE consider in determining removals and in the exercise of prosecutorial discretion?

Authority: Executive Order 14031. The President's Advisory Commission on Asian Americans, Native Hawaiians, and Pacific Islanders (Commission) is governed by provisions of the Federal Advisory Committee Act (FACA), Public Law 92-463, as amended (5 U.S.C. App.), which sets forth standards for the formation and use of Federal advisory committees.

Krystal Ka`ai,
Executive Director, White House Initiative on Asian Americans, Native Hawaiians, and Pacific Islanders, President's Advisory Commission on Asian Americans, Native Hawaiians, and Pacific Islanders.

[FR Doc. 2022-23876 Filed 11-2-22; 8:45 am]

BILLING CODE 4153-01-P